DEPARTMENT OF THE INTERIOR

Fish and Wildlife Service

Issuance of Permit for Marine Mammals

AGENCY: Fish and Wildlife Service, Interior.

ACTION: Notice of issuance of permit for marine mammals.

SUMMARY: The following permits were issued.

ADDRESSES: Documents and other information submitted for these applications are available for review by any party who submits a written request to the U.S. Fish and Wildlife Service, Division of Management Authority, 4401 North Fairfax Drive, Room 700, Arlington, Virginia 22203; fax (703) 358-2281.

FOR FURTHER INFORMATION CONTACT: Division of Management Authority, telephone 703/358-2104.

SUPPLEMENTARY INFORMATION: On December 24, 2002, a notice was published in the Federal Register (67 FR 78504), that an application had been filed with the Fish and Wildlife Service by Robert B. Michalek for a permit (PRT-065467) to import one polar bear (Ursus maritimus) sport hunted from the Western Hudson Bay polar bear population, Canada, for personal use.

Notice is hereby given that on February 13, 2003, as authorized by the provisions of the Marine Mammal Protection Act of 1972, as amended (16 U.S.C. 1361 et seq.) the Fish and Wildlife Service issued the requested permit subject to certain conditions set forth therein.

On January 15, 2003, a notice was published in the Federal Register (68 FR 2069), that an application had been filed with the Fish and Wildlife Service by Raymond Mancuso for a permit (PRT-066169) to import one polar bear (Ursus maritimus) sport hunted from the Lancaster Sound polar bear population, Canada, for personal use.

Notice is hereby given that on February 14, 2003, as authorized by the provisions of the Marine Mammal Protection Act of 1972, as amended (16 U.S.C. 1361 et seq.) the Fish and Wildlife Service issued the requested permit subject to certain conditions set forth therein.

On December 11, 2002, a notice was published in the Federal Register (67 FR 76183), that an application had been filed with the Fish and Wildlife Service by David G. Aul for a permit (PRT-065354) to import one polar bear (Ursus maritimus) sport hunted from the Western Hudson Bay polar bear population, Canada, for personal use.

Notice is hereby given that on February 27, 2003, as authorized by the provisions of the Marine Mammal Protection Act of 1972, as amended (16 U.S.C. 1361 et seq.) the Fish and Wildlife Service issued the requested permit subject to certain conditions set forth therein.

Dated: February 28, 2003.
Michael S. Moore,
Senior Permit Biologist, Branch of Permits, Division of Management Authority.

[FR Doc. 03-6317 Filed 3-14-03; 8:45 am]

BILLING CODE 4310-55-P